FEDERAL TRADE COMMISSION

Agency Information Collection Activities; Submission for OMB Review; Comment Request

AGENCY: Federal Trade Commission (FTC or Commission).

ACTION: Notice and request for comment.

SUMMARY: In compliance with the Paperwork Reduction Act (PRA) of 1995, the FTC is seeking public comments on its request to OMB for a three-year extension of the Trade Regulation Rule entitled Labeling and Advertising of Home Insulation (R-value Rule or Rule). That clearance expires on December 31, 2014.

DATES: Comments must be received by December 24, 2014.

ADDRESSES: Interested parties may file a comment online or on paper, by following the instructions in the Request for Comment part of the SUPPLEMENTARY INFORMATION section below. Write “R-value Rule: FTC File No. R811001” on your comment, and file your comment online at https://ftcpublic.commentworks.com/ftc/rvaluerulepra2 by following the instructions on the web-based form. If you prefer to file your comment on paper, mail or deliver your comment to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024.

FOR FURTHER INFORMATION CONTACT: Requests for copies of the collection of information and supporting documentation should be addressed to Hampton Newsome, Attorney, Division of Enforcement, Bureau of Consumer Protection, Federal Trade Commission, Mail Code CC-9528, 600 Pennsylvania Ave. NW., Washington, DC 20580, (202) 326-2889.

SUPPLEMENTARY INFORMATION: Title: R-value Rule, 16 CFR part 460.

OMB Control Number: 3084-0109.

Type of Review: Extension of a currently approved collection.

Abstract: The R-value Rule establishes uniform standards for the substantiation and disclosure of accurate, material product information about the thermal performance characteristics of home insulation products. The R-value of an insulation signifies the insulation's degree of resistance to the flow of heat. This information tells consumers how well a product is likely to perform as an insulator and allows consumers to determine whether the cost of the insulation is justified.

On August 13, 2014, the Commission sought comment on the information collection requirements in the R-value Rule. 79 FR 47461. No comments were received. The Commission did receive one non-germane filing that we have referred to the agency's Consumer Response Center for further action. As required by OMB regulations, 5 CFR part 1320, the FTC is providing this second opportunity for public comment.

Estimated Annual Hours Burden: 129,656 hours.

Likely Respondents and Estimated Burden:

Installation manufacturers, installers, new home builders/sellers, dealers and retailers.

(a) Installation manufacturers.

• Testing by installation manufacturers—15 new products/year × 2 hours each = 30 hours; and

• Disclosures by installation manufacturers—[(144 manufacturers × 20 hours) + (6 largest manufacturers × 80 hours each] = 3,360 hours.

• Recordkeeping by installation manufacturers—150 manufacturers × 1 hour each = 150 hours.

(b) Installers.

• Disclosures by retrofit installers (manufacturer's insulation fact sheet)—2 million retrofit installations/year × 2 minutes each = 66,667 hours.

• Disclosures by installers (advertising)—1,615 installers × 1 hour each = 1,615 hours.

• Recordkeeping by installers—1,615 installers × 5 minutes each = 134 hours.

(c) New home builders/sellers, dealers.

• Disclosures by new home sellers—924,000 new home sales/year × 30 seconds each = 7,700 hours.

(d) Retailers.

• Disclosures by retailers—[25,000 retailers × 1 hour each (fact sheets) + 25,000 retailers × 1 hour each (advertising disclosure) = 50,000 hours.

Frequency of Response: Periodic.

Total Annual Labor Cost: $2,571,000 per year (solely related to labor costs and rounded to the nearest thousand) [approximately $810 for testing, based on 30 hours for manufacturers (30 hours × $27 per hour for skilled technical personnel); $3,976 for manufacturers' and installers' compliance with the Rule's recordkeeping requirements, based on 284 hours (284 hours × $14 per hour for clerical personnel); $47,040 for manufacturers' compliance with third- party disclosure requirements, based on 3,360 hours (3,360 hours × $14 per hour for clerical personnel); and $2,519,640 for disclosure compliance by installers, new home sellers, and retailers (125,982 hours × $20 per hour for sales persons).]

Request for Comments

You can file a comment online or on paper. For the Commission to consider your comment, we must receive it on or before December 24, 2014. Write “R-value Rule: FTC File No. R811001” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you are required to follow the procedure explained in FTC Rule 4.9(c), 16 CFR 4.9(c). Your comment will be kept confidential only if the FTC General Counsel grants your request in accordance with the law and the public interest.

Postal mail addressed to the Commission is subject to delay due to heightened security screening. As a result, we encourage you to submit your comment online, or to send it to the Commission by courier or overnight service. To make sure that the Commission considers your online comment, you must file it at https://ftcpublic.commentworks.com/ftc/rvaluerulepra2, by following the instructions on the web-based form. If this Notice appears at http://www.regulations.gov, you also may file a comment through that Web site.

If you file your comment on paper, write “R-value Rule: FTC File No. R811001” on your comment and on the envelope, and mail or deliver it to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024. If possible, submit your paper comment to the Commission by courier or overnight service.

The FTC Act and other laws that the Commission administers permit the collection of public comments to consider and use in this proceeding as appropriate. The Commission will consider all timely and responsive public comments that it receives on or before December 24, 2014. You can find more information, including routine uses permitted by the Privacy Act, in the Commission's privacy policy, at http://www.ftc.gov/ftc/privacy.shtm.

Comments on the information collection requirements subject to review under the PRA should also be submitted to OMB. If sent by U.S. mail, address comments to: Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

David C. Shonka,
Principal Deputy General Counsel.

[FR Doc. 2014-27721 Filed 11-21-14; 8:45 am]

BILLING CODE 6750-01-P